DEPARTMENT OF HEALTH AND HUMAN SERVICES

Health Resources and Services Administration

Leadership Education in Neurodevelopmental and Other Related Disabilities MCH Training Program

AGENCY: Health Resources and Services Administration (HRSA), HHS.

ACTION: Notice of Class Deviation from Project/Budget Period Funding Policies.

SUMMARY: HRSA will provide 2 additional years of support in the absence of competition for one cohort of grants under the Leadership Education in Neurodevelopmental and Other Related Disabilities (LEND) MCH Training Program. HRSA will extend the project period to June 30, 2011, for the cohort of the LEND program expected to compete in fiscal year (FY) 2009, which would correspond to the sunset of the Combating Autism Act. Currently, there are 34 LEND grants split into two cohorts (17 each) with different end dates; one group is scheduled to compete in FY 2009 (Cohort A), and the other in FY 2011 (Cohort B). HRSA will non-competitively extend with funds the 5-year project periods for those LEND grantees ending on June 30, 2009, for 2 additional budget periods at the same level of support for the same scope of activities which they received in FY 2008.

SUPPLEMENTARY INFORMATION:

Intended Recipients of the Award

Seventeen programs in the LEND cohort are expected to compete in FY 2009. These programs presently have active LEND grants: University of Iowa, Johns Hopkins University, University of Missouri, University of Nebraska, Dartmouth Hitchcock Medical Center, Albert Einstein College of Medicine, Children's Hospital of Pittsburgh, University of South Dakota, University of Vermont, Virginia Commonwealth University, West Virginia University, University of Massachusetts Medical School, Ohio State University, Vanderbilt University, Children's Research Institute, Indiana University, University of Oklahoma.

Amount of Individual Supplemental Awards: Note: These funding levels are expected to continue in FYs 2009 and 2010.

Grantee | FY 2008 award
University of Iowa | $491,265
Johns Hopkins University | 884,277
University of Missouri | 393,012
University of Nebraska | 412,663
Dartmouth Hitchcock Medical Center | 451,964
Albert Einstein College of Medicine | 491,265
Children's Hospital of Pittsburgh | 393,012
University of South Dakota | 432,313
University of Vermont | 451,964
Virginia Commonwealth University | 451,964
West Virginia University | 439,825
University of Massachusetts Medical School | 604,256
Ohio State University | 393,011
Vanderbilt University | 393,012
Children's Research Institute | 393,012
Indiana University | 481,440
University of Oklahoma | 442,139

Current Project Periods: 7/1/04 through 6/30/09.

Period of Supplemental Funding:7/1/09 through 6/30/11.

Authority: Combating Autism Act of 2006, Public Law No. 109-416, § 399BB(e)(1)(A), 120 Stat 2821, 2826 (2006).

CFDA Number: 93.110.

FOR FURTHER INFORMATION CONTACT: Laura Kavanagh; Branch Chief, MCH Training Program, Division of Research, Training and Education; Maternal and Child Health Bureau; (301) 443-2254.

Justification for the Exception to Competition:HRSA is ending the two cohort system for the following reason:

The Combating Autism Act of 2006 is scheduled to sunset in September of 2011. With this legislation, it is critical to have sufficient and accurate data to evaluate the progress of screening and diagnosing a greater number of children with autism spectrum disorder (ASD) and other developmental disabilities and assuring that they receive evidenced based services. A national evaluation will be conducted to contribute to the HHS Secretary's Report to Congress on progress related to ASD and other developmental disabilities as required by the Combating Autism Act. From a programmatic perspective, it is imperative to collect data from the same group of grantees over the project period to assess program goals as requested in the National Evaluation. By extending the project period for two additional years for the LEND cohort with the current project period ending date of June 30, 2009, MCHB will be able to collect common data elements from both LEND cohorts through the end of Combating Autism Act which sunsets in 2011. Doing so will help ensure that there will be a more cohesive and uniform collection of data being gathered and analyzed across both cohorts which will increase sample size and ultimately, data validity and study power. If it becomes necessary to hold a competition for the LEND cohort in FY 2009 and new applicants were to apply and be successful, there would be the potential for less uniformity in the data collection. It is crucial that there is as much meaningful data gathered in the remaining time available from both cohorts to ensure that the National Evaluation is an accurate reflection of the program activities.

Under this deviation, MCHB will provide the LEND grantees in LEND Cohort A, currently expected to compete in FY 2009, with the same amount of funds for the same scope of activities that they received in FY 2008 for both the FY2009 and 2010 budget periods.

Dated: January 13, 2009.
Elizabeth M. Duke,
Administrator.

[FR Doc. E9-1236 Filed 1-21-09; 8:45 am]

BILLING CODE 4165-15-P